DEPARTMENT OF THE INTERIOR

Fish and Wildlife Service

[Docket No. FWS-HQ-IA-2017-0033; Docket No. FWS-HQ-IA-2017-0077; FXIA16710900000-178-FF09A30000]

Foreign Endangered and Threatened Species; Receipt of Applications for Permit

AGENCY: Fish and Wildlife Service, Interior.

ACTION: Notice of receipt of applications for permit.

SUMMARY: We, the U.S. Fish and Wildlife Service, invite the public to comment on the following applications to conduct certain activities with endangered and threatened species. With some exceptions, the Endangered Species Act prohibits activities with listed species unless Federal authorization is acquired that allows such activities.

DATES: We must receive comments or requests for documents on or before January 19, 2018.

ADDRESSES: Submitting Comments: You may submit comments by one of the following methods:

• Federal eRulemaking Portal: http://www.regulations.gov. Follow the instructions for submitting comments on Docket No. FWS-HQ-IA-2017-0033 and/or Docket No. FWS-HQ-IA-2017-0077, as indicated in III. Permit Applications, below.

• U.S. mail or hand-delivery: Public Comments Processing, Attn: Docket No. FWS-HQ-IA-2017-0033 and/or Docket No. FWS-HQ-IA-2017-0077; U.S. Fish and Wildlife Service, MS: BPHC; 5275 Leesburg Pike, Falls Church, VA 22041-3803.

When submitting comments, please also indicate the name of the applicant and the PRT# you are commenting on. We will post all comments on http://www.regulations.gov. This generally means that we will post any personal information you provide us (see Public Comments, below, for more information).

Viewing Comments: Comments and materials we receive will be available for public inspection on http://www.regulations.gov, or by appointment, between 8 a.m. and 4 p.m., Monday through Friday, except Federal holidays, at the U.S. Fish and Wildlife Service, Division of Management Authority, 5275 Leesburg Pike, Falls Church, VA 22041-3803; telephone 703-358-2095.

FOR FURTHER INFORMATION CONTACT: Joyce Russell, Government Information Specialist, Division of Management Authority, U.S. Fish and Wildlife Service Headquarters, MS: IA; 5275 Leesburg Pike, Falls Church, VA 22041-3803; telephone 703-358-2023; facsimile 703-358-2280.

SUPPLEMENTARY INFORMATION:

I. Public Comment Procedures

A. How do I request copies of applications or comment on submitted applications?

Send your request for copies of applications or comments and materials concerning any of the applications to the contact listed under FOR FURTHER INFORMATION CONTACT. Please include the Federal Register notice publication date, the docket number, PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.; ESA), along with Executive Order 13576, “Delivering an Efficient, Effective, and Accountable Government,” and the President's Memorandum for the Heads of Executive Departments and Agencies of January 21, 2009—Transparency and Open Government (74 FR 4685; Jan. 26, 2009), which call on all Federal agencies to promote openness and transparency in Government by disclosing information to the public, we invite public comment on these permit applications before final action is taken.

III. Permit Applications

We invite the public to comment on applications to conduct certain activities with endangered species. With some exceptions, the ESA prohibits activities with listed species unless Federal authorization is acquired that allows such activities.

Applicant: Audubon Nature Institute, New Orleans, LA; PRT-50379C; Docket No. FWS-HQ-IA-2017-0077

The applicant requests a permit to import one captive-born male orangutan (Pongo abelii) from the Hannover Zoo, Hannover, Germany, to enhance the propagation or survival of the species. This notification is for a single import.

Applicant: University of California, Davis, Davis, CA; PRT-50259C; Docket No. FWS-HQ-IA-2017-0077

The applicant requests a permit to import any endangered or threatened wildlife and plant species from worldwide sources, for the purpose of scientific research in applied animal ecology using stable isotope analysis. This notification covers activities to be conducted by the applicant over a 5-year period.

Applicant: Ronald Grant, Brackettville, TX; PRT-65097A; Docket No. FWS-HQ-IA-2017-0077

The applicant requests a permit authorizing interstate and foreign commerce, export, and cull of excess red lechwe (Kobus leche) from captive herds maintained at their facility, for the purpose of enhancement of the survival of the species. This notification covers activities to be conducted by the applicant over a 5-year period.

Applicant: Christopher Murray, Cookeville, TN; PRT-28444C; Docket No. FWS-HQ-IA-2017-0077

The application requests a permit authorizing multiple-use import of American crocodile (Crocodylus acutus) scientific samples from Costa Rica, for the purpose of scientific research. This notification covers activities to be conducted by the applicant over a 5-year period.

Applicant: University of Michigan Museum of Zoology, Ann Arbor, MI; PRT-41443C; Docket No. FWS-HQ-IA-2017-0077

The applicant requests a permit to import howler monkey (Alouatta palliata) blood and hair samples from Nicaragua, for the purpose of scientific research. This notification covers activities to be conducted by the applicant over a 5-year period.

Applicant: Busch Gardens, Tampa, FL; PRT-24014C; Docket No. FWS-HQ-IA-2017-0033

In the Federal Register of July 6, 2017 (82 FR 31346), we published a notice inviting the public to comment on an application we received from Busch Gardens, Tampa, FL. Two species—black rhinoceros (Diceros bicornus) and common chimpanzee (Pan troglodytes)—were inadvertently left out of the description of the application. We are reopening the comment period on this application. We must receive comments or requests for documents on or before the date shown in the DATES section. The full, correct description of the Busch Gardens application reads as follows:

The applicant requests a captive-bred wildlife registration under 50 CFR 17.21(g) to enhance the propagation or survival of the following species:

African slender-snouted crocodile (Crocodylus cataphractus), Asian elephant (Elephas maximus), black rhinoceros (Diceros bicornus), cheetah (Acinonyx jubatus), Malayan tiger (Panthera tigris corbetti), western gorilla (Gorilla gorilla), common chimpanzee (Pan troglodytes), Bornean orangutan (Pongo pygmaeus), red-fronted lemur (Eulemur rufus), mongoose lemur (Eulemur mongoz), ring-tailed lemur (Lemur catta), red-ruffed lemur (Varecia rubra), Cuban parrot (Amazona leucocephala), blue-throated macaw (Ara glaucogularis), and golden parakeet (Guarouba guarouba). This notification covers activities to be conducted by the applicant over a 5-year period.

Applicant: Morani River Ranch, Uvalde, TX; PRT-49112A; Docket No. FWS-HQ-IA-2017-0033

In the Federal Register of July 6, 2017 (82 FR 31346), we published a notice inviting the public to comment on an application we received from Morani River Ranch, Uvalde, TX. In that notice, the application was described incorrectly as a captive-bred wildlife application rather than a culling application. We are reopening the comment period on this application. We must receive comments or requests for documents on or before the date shown in the DATES section. The full, correct description of the Morani River Ranch application reads as follows:

The applicant requests a renewal of their permit authorizing the culling of excess barasingha (also known as “swamp deer”; Cervus duvauceli), red lechwe (Kobus leche), Arabian oryx (Oryx leucoryx), and Eld's brow-antlered deer (Cervus eldi) from the captive herd maintained at their facility, to enhance the propagation or survival of the species. This notification covers activities to be conducted by the applicant over a 5-year period.

Applicant: National Marine Fisheries Service, Southwest Fisheries Science Center, La Jolla, CA; PRT-69509B; Docket No. FWS-HQ-IA-2017-0077

The applicant requests authorization to export and reimport nonliving museum specimens of endangered and threatened species previously accessioned into the applicant's collection for scientific research. This notification covers activities to be conducted by the applicant over a 5-year period.

Applicant: H & L Sales, Inc., Hunt, Texas; PRT-704025; Docket No. FWS-HQ-IA-2017-0077

The applicant requests a permit authorizing the culling of excess barasingha (Rucervus dubauceli) and Arabian oryx (Oryx leucoryx) from the captive herd maintained at their facility, to enhance the species' propagation and survival. This notification covers activities to be conducted by the applicant over a 5-year period.

Trophy Applicants (Docket No. FWS-HQ-IA-2017-0077)

The following applicants each request a permit to import a sport-hunted trophy of a male bontebok (Damaliscus pygargus pygargus) culled from a captive herd maintained under the management program of the Republic of South Africa, for the purpose of enhancing the propagation or survival of the species.

Applicant: Larry Fliehs, Groton, SD; PRT-42537C

Applicant: Waggoner M. McDonnold, Midland TX; PRT-49644C

Applicant: Justin M. Bates, Dublin, OH; PRT-49643C

Applicant: Corbin J. Robertson Jr., Houston, TX; PRT-40255C

Applicant: Richard M. Bradish, Belgrade, MT; PRT-46591C

Applicant: Danny R. Hendrickson, Abilene, TX; PRT-47478C

Applicant: George Alan Clark, San Antonio, TX; PRT-54418C

Applicant: James R. Rymer, Jones, OK; PRT-45743C

IV. Next Steps

If the Service decides to issue permits to any of the applicants listed in this notice, we will publish a notice in the Federal Register. You may locate the Federal Register notice announcing the permit issuance date by searching regulations.gov under the permit number listed in this document.

V. Public Comments

You may submit your comments and materials concerning this notice by one of the methods listed in ADDRESSES. We will not consider comments sent by email or fax or to an address not listed in ADDRESSES.

If you submit a comment via regulations.gov, your entire comment, including any personal identifying information, will be posted on the website. If you submit a hardcopy comment that includes personal identifying information, you may request at the top of your document that we withhold this information from public review. However, we cannot guarantee that we will be able to do so.

We will post all hardcopy comments on regulations.gov under the applicable docket number.

VI. Authority

The authority for this action is the Endangered Species Act of 1973 (16 U.S.C. 1531 et seq.).

Joyce Russell,
Government Information Specialist, Branch of Permits, Division of Management Authority.

[FR Doc. 2017-27375 Filed 12-19-17; 8:45 am]

BILLING CODE 4333-15-P